DEPARTMENT OF HOMELAND SECURITY

Coast Guard

33 CFR Part 165

[Docket No. USCG-2008-0801]

Security Zone, Mackinac Bridge and Straits of Mackinac, Mackinaw City, MI

AGENCY: Coast Guard, DHS.

ACTION: Notice of enforcement of regulation.

SUMMARY: The Coast Guard will enforce the Mackinac Bridge Walk security zone on the Straits of Mackinac from 6 a.m. through 11:59 p.m. on September 1, 2008. This action is necessary to protect pedestrians during the event from an accidental or intentional vessel-to-bridge collision. During the enforcement period, navigational and operational restrictions will be placed on all vessels transiting through the Straits area, under and around the Mackinac Bridge, located between Mackinaw City, MI, and St. Ignace, MI. All vessels must obtain permission from the Captain of Port Sault Ste. Marie (COTP) or a Designated Representative to enter or move within the security zone.

DATES: The regulations in 33 CFR 165.928 will be enforced from 6 a.m. through 11:59 p.m. on September 1, 2008.

FOR FURTHER INFORMATION CONTACT: LCDR Christopher R. Friese, Prevention Dept. Chief, Sector Sault Ste. Marie, 337 Water St., Sault Ste. Marie, MI 49783; (906) 635-3220.

SUPPLEMENTARY INFORMATION: The Coast Guard will enforce the security zone for the annual Labor Day Mackinac Bridge Walk in 33 CFR 165.928 on September 1, 2008, from 6 a.m. to 11:59 p.m.

Under provisions of 33 CFR 165.928, a vessel may not enter or move with the regulated area, unless it receives permission from the COTP or a Designated Representative as defined in 33 CFR 165.928(a)(1). The Coast Guard may be assisted by other Federal, State, or local law enforcement agencies in enforcing this regulation.

This notice is issued under the authority of 33 CFR 165.928 and 5 U.S.C. 552(a). In addition to this notice in the Federal Register, the Coast Guard will provide the maritime community with advance notification of this enforcement period via a Local Broadcast Notice to Mariners.

Dated: July 31, 2008.
M.J. Huebschman,
Captain, U.S. Coast Guard, Captain of Port Sault Ste. Marie.

[FR Doc. E8-18349 Filed 8-7-08; 8:45 am]

BILLING CODE 4910-15-P